FEDERAL COMMUNICATIONS COMMISSION

47 CFR Part 73

[DA 05-298, MB Docket No. 05-31, RM-11150]

Radio Broadcasting Services; Paint Rock, TX

AGENCY: Federal Communications Commission.

ACTION: Proposed rule.

SUMMARY: This document requests comments on a Petition for Rule Making filed by Charles Crawford requesting the allotment of Channel 296C3 at Paint Rock, Texas, as the community's first local aural transmission service. Channel 296C3 can be allotted to Paint Rock in compliance with the Commission's rules provided there is a site restriction of 15 kilometers (9.3 miles) east at coordinates 31-31-15 North Latitude and 99-45-45 West Longitude. To accommodate this allotment, this document also proposes the relocation of reference coordinates for vacant FM Channel 296C2 at Big Lake, Texas with a site restriction of 24.1 kilometers (15.0 miles) southwest at coordinates 31-02-00 NL and 101-38-00 WL. The proposed Paint Rock allotment and the proposed site for the Big Lake allotment both requires Mexican concurrence since these proposed allotments are located within 320 kilometers (199 miles) of the U.S.-Mexican border. See SUPPLEMENTARY INFORMATION.

DATES: Comments must be filed on or before March 28, 2005, and reply comments on or before April 12, 2005.

ADDRESSES: Federal Communications Commission, 445 Twelfth Street, SW., Washington, DC 20554. In addition to filing comments with the FCC, interested parties should serve the petitioner, as follows: Charles Crawford, 4553 Bordeaux Avenue, Dallas, Texas 75205.

FOR FURTHER INFORMATION CONTACT: Rolanda F. Smith, Media Bureau, (202) 418-2180.

SUPPLEMENTARY INFORMATION: This is a summary of the Commission's Notice of Proposed Rule Making, MB Docket No. 05-31, adopted February 2, 2005, and released February 4, 2005. The full text of this Commission decision is available for inspection and copying during normal business hours in the Commission's Reference Center 445 Twelfth Street, SW., Washington, DC 20554. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington, DC 20054, telephone 1-800-378-3160 or http://www.BCPIWEB.com.

Provisions of the Regulatory Flexibility Act of l980 do not apply to this proceeding. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Texas, is amended by adding Paint Rock, Channel 296C3.

Federal Communications Commission.
John A. Karousos,
Assistant Chief, Audio Division, Media Bureau.

[FR Doc. 05-3312 Filed 2-18-05; 8:45 am]

BILLING CODE 6712-01-P